DEPARTMENT OF COMMERCE

National Oceanic and Atmospheric Administration

Evaluation of Hawaii State Coastal Management Program; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold an in-person public meeting to solicit input on the performance evaluation of the Hawaii Coastal Management Program. NOAA also invites the public to submit written comments.

DATES: NOAA will hold an in-person public meeting on Tuesday, August 20, 2024 at 6 p.m. Hawaii Standard Time (HST) at Washington Middle School Cafeteria, 1633 S King Street, Honolulu, Hawaii. NOAA may close the meeting 15 minutes after the conclusion of public testimony and after responding to any clarifying questions from participants. NOAA will consider all relevant written comments received by Friday, August 30, 2024.

ADDRESSES: Comments may be submitted by one of the following methods:

• In Person Public Meeting: Provide oral comments during the in-person public meeting Tuesday, August 20, 2024 at 6 p.m. HST at Washington Middle School Cafeteria, 1633 S King Street, Honolulu, Hawaii.

• Email: Send written comments to Susie Holst Rice, Evaluator, NOAA Office for Coastal Management, at czma.evaluations@noaa.gov. Include “Comments on Performance Evaluation of the Hawaii Coastal Management Program” in the subject line of the message.

NOAA will accept anonymous comments, however, the written comments NOAA receives are considered part of the public record, and the entirety of the comment, including the name of the commenter, email address, attachments, and other supporting materials, will be publicly accessible. Sensitive personally identifiable information, such as account numbers and Social Security numbers, should not be included with the comment. Comments that are not related to the performance evaluation of the Hawaii Coastal Management Program or that contain profanity, vulgarity, threats, or other inappropriate language will not be considered.

FOR FURTHER INFORMATION CONTACT: Susie Holst Rice, Evaluator, NOAA Office for Coastal Management, by email at susie.holst@noaa.gov or by phone at (978) 225-3420. Copies of the previous evaluation findings and Assessment and Strategies may be viewed and downloaded at http://coast.noaa.gov/czm/evaluations/. A copy of the evaluation notification letter and most recent progress report may be obtained upon request by contacting Susie Holst Rice.

SUPPLEMENTARY INFORMATION: Section 312 of the Coastal Zone Management Act (CZMA) requires NOAA to conduct periodic evaluations of federally approved coastal management programs. The evaluation process includes holding one or more public meetings, considering public comments, and consulting with interested Federal, State, and local agencies and members of the public. During the evaluation, NOAA will consider the extent to which the State of Hawaii has met the national objectives, adhered to the management program approved by the Secretary of Commerce, and adhered to the terms of financial assistance under the CZMA. When the evaluation is complete, NOAA's Office for Coastal Management will place a notice in the Federal Register announcing the availability of the final evaluation findings.

Authority: 16 U.S.C. 1458.

Keelin Kuipers,
Deputy Director, Office for Coastal Management, National Ocean Service, National Oceanic and Atmospheric Administration.

[FR Doc. 2024-12981 Filed 6-12-24; 8:45 am]

BILLING CODE 3510-08-P